DEPARTMENT OF DEFENSE

Office of the Secretary

Defense Science Board Task Force on Improving Fuel Efficiency of Weapons Platforms; Notice of Meeting

SUMMARY: The Defense Science Board Task Force on Improving Fuel Efficiency of Weapons Platforms will meet in closed session on November 15-16, 2000, at the Institute for Defense Analyses, 1801 N. Beauregard Street, Alexandria, VA 22311-1772.

The mission of the Defense Science Board is to advise the Secretary of Defense and the Under Secretary of Defense for Acquisition and Technology on scientific and technical matters as they affect the perceived needs of the Department of Defense. At this meeting, the Task Force will review fuel-efficient technologies, including new or improved fuels, engines, Alternative Fueled Vehicles, and other advanced technologies and assess their operational, logistical, cost, and environmental impacts for a range of practical implementation scenarios.

Due to critical mission requirements, there is insufficient time to provide timely notice required by Section 10(a)(2) of the Federal Advisory Committee Act and Subsection 101-6.1015(b) of the GSA Final Rule on Federal Advisory Committee Management, 41 CFR part 101-6, which further requires publication at least 15 calendar days prior to the meeting of the Task Force on November 15-16, 2000.

Persons interested in further information should call Commander Brian D. Hughes, USN, at (703) 695-4157.

Dated: November 16, 2000.
L.M. Bynum,
Alternate OSD Federal Register Liaison Officer, Department of Defense.

[FR Doc. 00-29932 Filed 11-22-00; 8:45 am]

BILLING CODE 5001-10-M